DEPARTMENT OF DEFENSE

Department of the Navy

[Docket ID: USN-2023-HQ-0015]

Proposed Collection; Comment Request

AGENCY: Department of the Navy, Department of Defense (DoD).

ACTION: 60-Day information collection notice.

SUMMARY: In compliance with the Paperwork Reduction Act of 1995, the United States Naval Research Laboratory announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 25, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Naval Research Laboratory South, 1005 Balch Blvd., Stennis Space Center, MS 39529, ATTN: Chris J. Michael, or call 228-688-4955.

SUPPLEMENTARY INFORMATION:

Title; Associated Form; and OMB Number: Generic Clearance for U.S. Naval Research Laboratory Cognitive Geospatial Systems Research; OMB Control Number 0703-NRLG.

Needs and Uses: The Cognitive Geospatial Systems Section of the U.S. Naval Research Laboratory (NRL) is funded to conduct geospatial human-machine teams research. As part of the research, it is crucial that human subjects be surveyed in order to understand perception, cognition, and behavior as it pertains to digital maps, visual geospatial analytics, and spatialized audio. The research will be used to create and improve general-purpose digital map products, geospatial analytics, and workflows for situational awareness associated with the geospatial analysts. The subject matter of stimuli will relate to map features (including label styles, label placement, fonts, icons and symbols, color, saturation, opacity, size, scaling, clutter or density), base map features (including orthogonal photographic imagery and terrain), and audio features (including spectrograms of audio, sound quality, and audio generated from environmental scenarios with multiple sound sources). Research tasks will relate to the identification of landmarks, finding points of interest, route planning, distance and elevation estimation, use of a legend, providing preference judgements, identification of audio sources, and localization of audio sources. All surveys within this research program will consist of anonymous (i.e., no collection of Personally Identifiable Information (PII) as defined by the Office of Management and Budget) questionnaires lasting no longer than an estimate of 60 minutes. For prudent comparative science and replication, respondents will be asked to provide demographic information such as age, gender, native language, ethnicity, color blindness, known hearing loss, frequency/ability of casual map use. Preferences for and performance with the stimuli (geographic map, geospatial analytic, or audio) will be collected and evaluated via open-ended questions, close-ended questions, multiple-choice questions, rating scales, mouse-click counts, mouse-click positions, and eye behavior captured by eye tracking hardware. Results will provide insight into participant's task performance, perception, attention, and cognitive load when exposed to or interacting with the research stimuli. Each survey will only be conducted after full approval of the NRL Institutional Review Board to assure that the procedure abides by The Federal Policy for the Protection of Human Subjects, a.k.a. The Common Rule. As such, Stimuli presented will represent participants' everyday occurrences with digital maps, geospatial analytics, and spatialized audio.

Affected Public: Individuals or households.

Annual Burden Hours: 2,000.

Number of Respondents: 2,000.

Responses per Respondent: 1.

Annual Responses: 2,000.

Average Burden per Response: 60 minutes.

Frequency: Once.

Dated: July 19, 2023.
Aaron T. Siegel,
Alternate OSD Federal Register Liaison Officer, Department of Defense.

[FR Doc. 2023-15789 Filed 7-25-23; 8:45 am]

BILLING CODE 5001-06-P